DEPARTMENT OF ENERGY

Federal Energy Regulatory Commission

[Docket No. AD21-10-000]

Modernizing Electricity Market Design; Supplemental Notice of Technical Conference on Resource Adequacy in the Evolving Electricity Sector: ISO New England Inc

As first announced in the Notice of Technical Conference issued in this proceeding on April 22, 2021, the Federal Energy Regulatory Commission (Commission) will convene a Commissioner-led technical conference in the above-referenced proceeding on May 25, 2021, from approximately 9:00 a.m. to 4:15 p.m. Eastern time. The conference will be held remotely. Attached to this Supplemental Notice is an agenda for the technical conference. Commissioners may attend and participate in the technical conference.

Discussions at the conference may involve issues raised in proceedings that are currently pending before the Commission. These proceedings include, but are not limited to:

| Docket Nos.
ISO New England Inc | ER21-787-000.
ISO New England Inc | ER21-943-000.
New England Power Generators Ass'n, Inc. v. ISO New England Inc | EL21-26-000.
ISO New England Inc | ER21-1226-000.
ISO New England Inc., New England Power Pool Participants Committee | ER21-1637-000.
Independent Market Monitor for PJM v. PJM Interconnection, L.L.C | EL19-47-000.
Office of the People's Counsel for D.C. et al. v. PJM Interconnection | EL19-63-000.
PJM Interconnection, L.L.C | EL19-100-000.
PJM Interconnection, L.L.C | ER21-278-000 and ER21-278-001.
New York Independent System Operator, Inc | ER20-1718-002.
New York State Public Service Commission, et al. v. New York Independent System Operator, Inc | EL16-92-004 and ER17-996-004.
New York Independent System Operator, Inc | ER16-1404-005, ER16-1404-006, and ER16-1404-007.
New York Independent System Operator, Inc | ER21-502-000 and ER21-502-001.
New York Independent System Operator, Inc | ER21-1018-000.
Cricket Valley Energy Center LLC and Empire Generating Company, LLC v. New York Independent System Operator, Inc | EL21-7-000.

The conference will be open for the public to attend remotely. There is no fee for attendance. Information on this technical conference, including a link to the webcast, will be posted on the conference's event page on the Commission's website (https://www.ferc.gov/news-events/events/technical-conference-regarding-wholesale-markets-administered-iso-new-england) prior to the event.

The conference will be transcribed. Transcripts will be available for a fee from Ace Reporting at (202) 347-3700.

Commission conferences are accessible under section 508 of the Rehabilitation Act of 1973. For accessibility accommodations, please send an email to accessibility@ferc.gov or call toll free (866) 208-3372 (voice) or (202) 208-8659 (TTY), or send a fax to (202) 208-2106 with the required accommodations.

For more information about this technical conference, please contact David Rosner at david.rosner@ferc.gov or (202) 502-8479 or Emma Nicholson at emma.nicholson@ferc.gov or (202) 502-8741. For legal information, please contact Meghan O'Brien at meghan.o'brien@ferc.gov or (202) 502-6137. For information related to logistics, please contact Sarah McKinley at sarah.mckinley@ferc.gov or (202) 502-8368.

Dated: May 17, 2021.
Kimberly D. Bose,
Secretary.

[FR Doc. 2021-10826 Filed 5-21-21; 8:45 am]

BILLING CODE 6717-01-P